DEPARTMENT OF THE INTERIOR

Bureau of Land Management

Notice of Public Meeting: Resource Advisory Council to the Lower Snake River District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held November 18, 2003, beginning 9 a.m. at the Bureau of Land Management, Lower Snake River District Office Sage Brush Conference Room, located at 3948 Development Ave, Boise, Idaho 83705. Public comment periods will be held after topics on the agenda. The meeting will adjourn at 4:30 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following topics will be discussed:

• Overview of American Indian statutes, regulations, and treaties, trust relationship, tribal resource rights, tribal sovereignty and governmental authority, Native American consultation and coordination—Douglas McConnaughey, Facilitator, Mediator, and Arbitrator;

• Subcommittee Reports

• Grouse Habitat Management, Off-Highway Vehicles (OHV) and Transportation Management, River Recreation and Resource Management Plans, and Fire and Fuels Management;

• Two Resource Management Plans under development in the District—update on progress during workshops for Alternatives development;

• OHV Update—

• Status of BLM Idaho's Strategic Plan—Terry Heslin

• Progress in OHV trails mapping and public outreach—Lower Snake River District, Owyhee Field Office, Jim Schmid, Trails Specialist, LSRD-OFO;

• Idaho Department of Parks and Recreation (IDPR)—Trail Ranger Partnership Program—Rick Collignon, Director, IDPR;

• Idaho's Noxious Weed Program—Weed Awareness Campaign—Spring Workshops and Field trips—Brenda Waters, Noxious Weed Program Coordinator, Idaho State Department of Agriculture;

• Three Field Office Managers and District Fire Manager provide updates on current issues and planned activities in their field office and the District; and

• RAC review of Charter, work plan, priorities, and identify dates for 2004 meetings.

Agenda items may change due to changing circumstances. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: October 14, 2003.
Howard Hedrick,
Associate District Manager.

[FR Doc. 03-26363 Filed 10-17-03; 8:45 am]

BILLING CODE 4310-AG-P